FEDERAL COMMUNICATIONS COMMISSION

Sunshine Act Meeting

February 15, 2001.

FCC To Hold Open Commission Meeting Thursday, February 22, 2001

The Federal Communications Commission will hold an Open Meeting on Thursday, February 22, 2001, at 9:30 a.m. in room TW-C305, at 445 12th Street, SW., Washington, DC. The meeting will focus on a comprehensive review of FCC policies and procedures by the Commissioners and senior agency officials.

Presentations will be made in two panels:

Panel One consisting of the Chiefs of the Wireless Telecommunications Bureau, Common Carrier Bureau, Enforcement Bureau and Consumer Information Bureau, and

Panel Two consisting of the Chiefs of the Office of Engineering and Technology, International Bureau, Mass Media Bureau and Cable Services Bureau.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
William F. Caton,
Deputy Secretary.

[FR Doc. 01-4426 Filed 2-16-01; 3:10 pm]

BILLING CODE 6712-01-M